ENVIRONMENTAL PROTECTION AGENCY

40 CFR Part 62

[EPA-R01-OAR-2013-0109; A-1-FRL-9799-9]

Approval and Promulgation of State Plans for Designated Facilities and Pollutants: Connecticut; 111(d)/129 Revised State Plan for Large and Small Municipal Waste Combustors

AGENCY: Environmental Protection Agency (EPA).

ACTION: Proposed rule.

SUMMARY: EPA is proposing to approve the Clean Air Act 111(d)/129 State Plan revisions for Large and Small Municipal Waste Combustors (MWC) submitted by the Connecticut Department of Energy and Environmental Protection (DEEP) on October 22, 2008. The revised Plan is in response to amended emission guidelines (EGs) and new source performance standards (NSPS) for Large MWCs promulgated on May 10, 2006. Connecticut DEEP's State Plan is for implementing and enforcing provisions at least as protective as the EGs applicable to existing Large and Small MWC units pursuant to 40 CFR part 60, Subparts Cb and BBBB, respectively.

DATES: Written comments must be received on or before May 13, 2013.

ADDRESSES: Submit your comments, identified by Docket ID Number EPA-R01-OAR-2013-0109 by one of the following methods:

1. www.regulations.gov: Follow the on-line instructions for submitting comments.

2. Email: mcdonnell.ida@epa.gov

3. Fax: (617) 918-0653.

4. Mail: “Docket Identification Number EPA-R01-OAR-2013-0109”, Ida McDonnell, U.S. Environmental Protection Agency, EPA New England Regional Office, Office of Ecosystem Protection, Air Permits, Toxic, & Indoor Programs Unit, 5 Post Office Square—Suite 100, (Mail code OEP05-2), Boston, MA 02109-3912.

5. Hand Delivery or Courier. Deliver your comments to: Ida McDonnell, U.S. Environmental Protection Agency, EPA New England Regional Office, Office of Ecosystem Protection, Air Permits, Toxic, & Indoor Programs Unit, 5 Post Office Square—Suite 100, (Mail code OEP05-2), Boston, MA 02109-3912. Such deliveries are only accepted during the Regional Office's normal hours of operation. The Regional Office's official hours of business are Monday through Friday, 8:30 to 4:30, excluding legal holidays.

Please see the direct final rule which is located in the Rules Section of this Federal Register for detailed instructions on how to submit comments.

FOR FURTHER INFORMATION CONTACT: Patrick Bird, Air Permits, Toxic, & Indoor Programs Unit, Air Programs Branch, Office of Ecosystem Protection, U.S. Environmental Protection Agency, Region 1, 5 Post Office Square, Mail Code: OEP05-2, Boston, MA, 02109-0287. The telephone number is (617) 918-1287. Mr. Bird can also be reached via electronic mail at bird.patrick@epa.gov.

SUPPLEMENTARY INFORMATION: In the Final Rules Section of this Federal Register, EPA is approving the State's State Plan revisions as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: March 27, 2013.
H. Curtis Spalding,
Regional Administrator, EPA New England.

[FR Doc. 2013-08644 Filed 4-11-13; 8:45 am]

BILLING CODE 6560-50-P